PRESIDIO TRUST

Notice of Public Meeting of Presidio Institute Advisory Council

AGENCY: The Presidio Trust.

ACTION: Notice of public meeting of Presidio Institute Advisory Council.

SUMMARY: Pursuant to the Federal Advisory Committee Act, as amended (5 U.S.C. Appendix 2), notice is hereby given that a public meeting of the Presidio Institute Advisory Council (Council) will be held from 10:00 a.m. to 11:30 a.m. on Monday, September 12, 2016. The meeting is open to the public, and oral public comment will be received at the meeting. The Council was formed to advise the Executive Director of the Presidio Trust (Trust) on matters pertaining to the rehabilitation and reuse of Fort Winfield Scott as a new national center focused on service and leadership development.

SUPPLEMENTARY INFORMATION: The Trust's Executive Director, in consultation with the Chair of the Board of Directors, has determined that the Council is in the public interest and supports the Trust in performing its duties and responsibilities under the Presidio Trust Act, 16 U.S.C. 460bb appendix.

The Council will advise on the establishment of a new national center (Presidio Institute) focused on service and leadership development, with specific emphasis on: (a) Assessing the role and key opportunities of a national center dedicated to service and leadership at Fort Scott in the Presidio of San Francisco; (b) providing recommendations related to the Presidio Institute's programmatic goals, target audiences, content, implementation and evaluation; (c) providing guidance on a phased development approach that leverages a combination of funding sources including philanthropy; and (d) making recommendations on how to structure the Presidio Institute's business model to best achieve the Presidio Institute's mission and ensure long-term financial self-sufficiency.

Meeting Agenda: This meeting of the Council will include an update on Presidio Institute programs. The period from 11:00 a.m. to 11:30 a.m. will be reserved for public comments.

Public Comment: Individuals who would like to offer comments are invited to sign-up at the meeting and speaking times will be assigned on a first-come, first-served basis. Written comments may be submitted on cards that will be provided at the meeting, via mail to Amanda Marconi, Presidio Institute, 1201 Ralston Avenue, San Francisco, CA 94129-0052, or via email to amarconi@presidiotrust.gov. If individuals submitting written comments request that their address or other contact information be withheld from public disclosure, it will be honored to the extent allowable by law. Such requests must be stated prominently at the beginning of the comments. The Trust will make available for public inspection all submissions from organizations or businesses and from persons identifying themselves as representatives or officials of organizations and businesses.

Time: The meeting will be held from 10:00 a.m. to 11:30 a.m. on Monday, September 12, 2016.

Location: The meeting will be held at 1202 Ralston Avenue, San Francisco, CA 94129.

FOR FURTHER INFORMATION CONTACT: Additional information is available online at http://www.presidio.gov/institute/about/Pages/advisory-council.aspx

Dated: August 8, 2016.
Andrea M. Andersen,
Acting General Counsel.

[FR Doc. 2016-19200 Filed 8-11-16; 8:45 am]

BILLING CODE 4310-4R-P